NUCLEAR REGULATORY COMMISSION

Request for Comments on the Nuclear Regulatory Commission's Low Level Radioactive Waste Program; Extension of Comment Period

AGENCY: U.S. Nuclear Regulatory Commission.

ACTION: Request for comments on the Nuclear Regulatory Commission's low level radioactive waste program; Extension of Comment Period.

DATES: The public comment period for this action has been extended and now closes September 5, 2006. Written comments should be submitted as described in the ADDRESSES section of this notice. Comments submitted by mail should be postmarked by that date to ensure consideration. Comments received or postmarked after that date will be considered to the extent practical.

FOR FURTHER INFORMATION CONTACT: Mr. Ryan Whited, Chief, Low Level Waste Section, Environmental and Performance Assessment Directorate, Division of Waste Management and Environmental Protection, Office of Nuclear Material Safety and Safeguards, U.S. Nuclear Regulatory Commission, Rockville, MD 20852. Telephone: (301) 415-7257; fax number: (301) 415-5370; e-mail: arw2@nrc.gov.

SUMMARY: On July 7, 2006 (71 FR 38675), the U.S. Nuclear Regulatory Commission published a document requesting public comment on its low level radioactive waste regulatory program. The comment period for this action, which was to have closed 30 days after publication, is being extended for an additional 30 days.

ADDRESSES: Members of the public are invited and encouraged to submit comments to the Chief, Rules and Directives Branch, Mail Stop T6-D59, U.S. Nuclear Regulatory Commission, Washington, DC 20555-0001. Comments will also be accepted by e-mail at NRCREP@nrc.gov or by fax to (301) 415-5397, Attention: Ryan Whited.

Dated at Rockville, Maryland this 20th day of July, 2006.
For the Nuclear Regulatory Commission.
Scott Flanders,
Deputy Director, Environmental and Performance Assessment Directorate, Division of Waste Management and Environmental Protection, Office of Nuclear Materials Safety and Safeguards.

[FR Doc. E6-12022 Filed 7-26-06; 8:45 am]

BILLING CODE 7590-01-P